SMALL BUSINESS ADMINISTRATION

Data Collection Available for Public Comments

ACTION: 60-Day notice and request for comments.

SUMMARY: The Small Business Administration (SBA) intends to request approval from the Office of Management and Budget (OMB) for a modification to the collection of information described below. The Paperwork Reduction Act (PRA) requires federal agencies to publish a notice in the Federal Register concerning each proposed collection of information before submission to OMB and to allow 60 days for public comment in response to the notice. This notice complies with that requirement.

DATES: To ensure consideration, comments regarding this information collection must be received on or before February 21, 2025.

ADDRESSES: Send all comments by email to oii.policy@sba.gov, Paul Van Eyl, Policy Division, Office of Investment and Innovation, Small Business Administration.

FOR FURTHER INFORMATION CONTACT: Paul Van Eyl, Policy Division, 202-798-7537, oii.policy@sba.gov, or Curtis B. Rich, Agency Clearance Officer, 202-205-7030, curtis.rich@sba.gov.

SUPPLEMENTARY INFORMATION: To obtain the information needed to carry out its oversight and risk management responsibilities under the Small Business Investment Act of 1958, as amended (the Act), the SBA requires applicants to the Small Business Investment Company (SBIC) program to submit information necessary for SBA to make decisions regarding the approval or denial of an applicant for an SBIC license. SBA uses this information to assess an applicant's ability to successfully operate an SBIC within the scope of the Act.

Solicitation of Public Comments: SBA is requesting comments on (a) Whether the collection of information is necessary for the agency to properly perform its mission and functions with respect to the SBIC program; (b) whether the burden estimates are accurate; (c) whether there are ways to minimize the burden, including through the use of automated techniques or other forms of information technology; and (d) whether there are ways to enhance the quality, utility, and clarity of the information.

OMB Control Number 3245-0063

Title: SBIC Management Assessment Questionnaire (MAQ) and License Application.

SBA Form Number: 2181 (Short Form, Long Form, and Subsequent Fund MAQ).

Description of Respondents: Small Business Investment Company Applicants.

Estimated Number of Respondents: 275.

Estimated Annual Responses: 275.

Estimated Annual Burden: 17,750.

Curtis Rich,
Agency Clearance Officer.

[FR Doc. 2024-30519 Filed 12-20-24; 8:45 am]

BILLING CODE 8026-09-P